DEPARTMENT OF TRANSPORTATION

Federal Railroad Administration

[Docket Number FRA-2006-23686]

Petition for Approval of Product Safety Plan

Under part 211 of Title 49 Code of Federal Regulations (CFR), this document provides the public notice that on May 4, 2018, BNSF Railway Company (BNSF), with participating railroads Union Pacific Railroad (UP) and Canadian Pacific Railway (CP), petitioned the Federal Railroad Administration (FRA) for approval of a Product Safety Plan (PSP) pursuant to 49 CFR 236.907(a). FRA assigned the petition Docket Number FRA-2006-23686.

BNSF, with participant railroads UP and CP, request FRA approval of a PSP for the Dual Radar Roadway Vehicle Detector (VDR24). The VDR24, supplied by Island Radar, is used as a vehicle detection subsystem for four-quadrant gate crossing warning systems, with its intended application as an alternative to inductive loop vehicle detectors.

The petition asserts that this PSP addresses all requirements of 49 CFR 236.907(a).

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by July 2, 2018 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety, Chief Safety Officer.

[FR Doc. 2018-10444 Filed 5-15-18; 8:45 am]

BILLING CODE 4910-06-P